FEDERAL COMMUNICATIONS COMMISSION

47 CFR Part 73

[DA 06-1532; MB Docket No. 05-219; RM-11249]

Radio Broadcasting Services; Brawley and Campo, CA

AGENCY: Federal Communications Commission.

ACTION: Final rule.

SUMMARY: This document grants a proposal filed by CCR-Brawley IV, LLC as proposed in the Notice of Proposed Rule Making in this proceeding. Specifically, the license of Station KSIQ, Channel 241B, Brawley, California, is modified to specify operation on Channel 241B1 at Campo, California. The reference coordinates for the Channel 241B1 allotment at Campo, California, are 32-38-30 and 116-28-05. With this action, the proceeding is terminated.

DATES: Effective September 11, 2006.

FOR FURTHER INFORMATION CONTACT: Robert Hayne, Media Bureau (202) 418-2177.

SUPPLEMENTARY INFORMATION: This is a synopsis of the Report and Order in MB Docket No. 05-219, adopted July 26, 2006, and released July 28, 2006. The full text of this decision is available for inspection and copying during normal business hours in the FCC Reference Information Center at Portals ll, CY-A257, 445 12th Street, SW., Washington, DC 20554. The complete text of this decision may also be purchased from the Commission's copy contractor, Best Copy and Printing, Inc., 445 12th Street, SW., Room CY-B402, Washington, DC 20554, telephone 1-800-378-3160 or http://www.BCPIWEB.com. The Commission will send a copy of this Report and Order in a report to be sent to Congress and the Government Accountability Office pursuant to the Congressional Review Act see 5 U.S.C. 801(a)(1)(A).

List of Subjects in 47 CFR Part 73

Radio, Radio Broadcasting.

As stated in the preamble, the Federal Communications Commission amends 47 CFR part 73 as follows:

PART 73—RADIO BROADCAST SERVICES

1. The authority citation for part 73 continues to read as follows:

Authority: 47 U.S.C. 154, 303, 334, 336.

§ 73.202(b) [Amended]

2. Section 73.202(b), the table of FM Allotments under California, is amended by removing Channel 241B at Brawley and by adding Campo, Channel 241B1.

Federal Communications Commission.
John A. Karousos,
Assistant Chief, Audio Division, Media Bureau.

[FR Doc. E6-13358 Filed 8-15-06; 8:45 am]

BILLING CODE 6712-01-P